DEPARTMENT OF ENERGY

Federal Energy Regulatory Commission

Combined Notice of Filings #1

Take notice that the Commission received the following electric corporate filings:

Docket Numbers: EC12-55-000.

Applicants: ConocoPhillips Company.

Description: Amendment to Section 203 Application of ConocoPhillips Company.

Filed Date: 1/20/12.

Accession Number: 20120120-5259.

Comments Due: 5 p.m. ET 1/30/12.

Docket Numbers: EC12-62-000.

Applicants: La Paloma Generating Company, LLC, Merrill Lynch Credit Products, LLC.

Description: Application for Order Authorizing Disposition of Jurisdictional Facilities under section 203 of The Federal Power Act and Request for Waivers and Expedited Action of Merrill Lynch Credit Products, LLC and La Paloma Generating Company, LLC.

Filed Date: 1/20/12.

Accession Number: 20120120-5257.

Comments Due: 5 p.m. ET 2/10/12.

Take notice that the Commission received the following exempt wholesale generator filings:

Docket Numbers: EG12-25-000.

Applicants: Tenaska Washington Partners, LP.

Description: Notice of Self-Certification of Exempt Wholesale Generator Status of Tenaska Washington Partners, LP.

Filed Date: 1/20/12.

Accession Number: 20120120-5173.

Comments Due: 5 p.m. ET 2/10/12.

Take notice that the Commission received the following electric rate filings:

Docket Numbers: ER10-2026-000.

Applicants: Pacific Gas and Electric Company.

Description: TO13 Compliance Electric Refund Report to be effective N/A.

Filed Date: 1/20/12.

Accession Number: 20120120-5160.

Comments Due: 5 p.m. ET 2/10/12.

Docket Numbers: ER10-3286-003; ER10-3299-002.

Applicants: Millennium Power Partners, LP, New Athens Generating Company, LLC.

Description: Additional Supplement to Updated Market Power Analysis of Millennium Power Partners, LP, et al.

Filed Date: 1/20/12.

Accession Number: 20120120-5258.

Comments Due: 5 p.m. ET 2/10/12.

Docket Numbers: ER12-551-001.

Applicants: Westar Energy, Inc.

Description: Amendment to Compliance Filing, Schedule 3A, Generator Regulation & Frequency to be effective 12/25/2011.

Filed Date: 1/18/12.

Accession Number: 20120118-5131.

Comments Due: 5 p.m. ET 2/8/12.

Docket Numbers: ER12-855-000.

Applicants: Nevada Power Company.

Description: Rate Schedule No. 95 Amended & Restated Navajo Project Co-Tenancy Agreement to be effective 3/20/2012.

Filed Date: 1/20/12.

Accession Number: 20120120-5179.

Comments Due: 5 p.m. ET 2/10/12.

Docket Numbers: ER12-856-000.

Applicants: Nevada Power Company.

Description: Rate Schedule No. 96 Navajo Project Western Transmission System Operating Agreement to be effective 3/20/2012.

Filed Date: 1/20/12.

Accession Number: 20120120-5185.

Comments Due: 5 p.m. ET 2/10/12.

Docket Numbers: ER12-857-000.

Applicants: Pacific Gas and Electric Company.

Description: PWRPA 3rd Amendment to Appendix B to IA and WDT Service Agreement to be effective 12/31/9998.

Filed Date: 1/20/12.

Accession Number: 20120120-5192.

Comments Due: 5 p.m. ET 2/10/12.

Docket Numbers: ER12-858-000.

Applicants: Arizona Public Service Company.

Description: Arizona Public Service Company submits tariff filing per 35.13(a)(2)(iii: Modifications to Joint Agreements, Rate Schedules No. 211, 212, 242, and 243 to be effective 3/21/2012.

Filed Date: 1/20/12.

Accession Number: 20120120-5239.

Comments Due: 5 p.m. ET 2/10/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2012.
Nathaniel J. Davis, Sr.,
Deputy Secretary.

[FR Doc. 2012-1899 Filed 1-27-12; 8:45 am]

BILLING CODE 6717-01-P